DEPARTMENT OF JUSTICE

Notice of Lodging of Consent Decree Under the Lead-Based Paint Hazard Act

Notice is hereby given that on May 2, 2005, a proposed consent decree in United States v. Will J. Sherard and W.J. Sherard Company, Civil Action No. 05-C-0486, was lodged with the United States District Court for the Eastern District of Wisconsin.

The consent decree settles claims against the owner and management company of residential rental properties principally in Milwaukee, Wisconsin, which were brought on behalf of the Department of Housing and Urban Development and the Environmental Protection Agency under the Residential Lead-Based Paint Hazard Reduction Act 42 U.S.C. 4851 et seq. (“Lead Hazard Reduction Act”). The United States alleged in the complaint that the defendants failed to provide information to tenants concerning lead-based paint hazards, and failed to disclose to tenants the presence of known lead-based paint or known lead-based paint hazards.

Under the consent decree, defendants have agreed to provide the required notice and disclosures, to perform inspections at the buildings for the presence of lead-based paint, and to perform lead-based paint abatement. In addition, the defendants will pay a penalty of $15,000 to the United States.

The Department of Justice will receive for a period of thirty (30) days from the date of this publication comments relating to the consent decree. Comments should be addressed to the Assistant Attorney General of the Environment and Natural Resources Division, Department of Justice, P.O. Box 7611, Washington, DC 20044-7611, and should refer to United States v. Will J. Sherard and W.J. Sherard Company, D.J. # 90-11-2-08256.

The proposed consent decree may be examined at the Department of Housing and Urban Development, Office of General Counsel, 451 7th St., NW., Room 9262,Washington, DC 20410; at the office of the United States Attorney for the Eastern District of Wisconsin, 517 E. Wisconsin Ave., Room 530, Milwaukee, Wisconsin 53202; and at U.S. EPA Region 5, 77 W. Jackson Blvd., Chicago, IL 60604. During the public comment period, the consent decree may also be examined on the following Department of Justice Web site, http://www.usdoj.gov/enrd/open.html. Copies of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy please refer to the referenced case and enclose a check in the amount of $8.00 (25 cents per page reproduction costs), payable to the U.S. Treasury for the consent decree in United Sates v. Will J. Sherard and W.J. Sherard Company., D.J. # 90-11-2-08256.

Karen Dworkin,
Assistant Chief, Environmental Enforcement Section, Environment and Natural Resources Division.

[FR Doc. 05-9943 Filed 5-18-05; 8:45 am]

BILLING CODE 4410-15-M